DEPARTMENT OF TRANSPORTATION

Federal Aviation Administration

Agency Information Collection Activities: Requests for Comments; Clearance of Approval for Renewal and Revision of Information Collection: High Density Traffic Airports; Slot Allocation and Transfer Methods

AGENCY: Federal Aviation Administration (FAA), DOT.

ACTION: Notice and request for comments.

SUMMARY: In accordance with the Paperwork Reduction Act of 1995, the FAA invites public comments about our intention to request approval from the Office of Management and Budget (OMB) to renew and revise a currently approved information collection. The FAA collects information to allocate and administer landing and takeoff slots and maintain accurate records of slot transfers at Ronald Reagan Washington National Airport (DCA) under a currently approved collection. The FAA is requesting a renewal for the DCA information collection and a revision to include six additional airports: John F. Kennedy International Airport (JFK), LaGuardia Airport (LGA), Los Angeles International Airport (LAX), Newark Liberty International Airport (EWR), O'Hare International Airport (ORD), and San Francisco International Airport (SFO).

The information collection is required from air carriers and other operators at all impacted airports.

DATES: Written comments should be submitted by May 29, 2018.

ADDRESSES: Send comments to the FAA at the following address: Barbara Hall, Federal Aviation Administration, ASP-110, 10101 Hillwood Parkway, Fort Worth, TX 76177.

Public Comments Invited: Public comment is invited on any aspect of this information collection, including: (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION:

OMB Control Number: 2120-0524.

Title: High Density Traffic Airports; Slot Allocation and Transfer Methods.

Form Numbers: There are no FAA forms associated with this collection.

Type of Review: Renewal and Revision of an Information Collection.

Background

The FAA has implemented several initiatives to address congestion and delay issues at certain airports within the National Airspace System (NAS). The FAA has issued Orders limiting operations at JFK and LGA.¹ These Orders resulted in part from increasing congestion and delays at the airports requiring the FAA to allocate arrival and departure slots at JFK and LGA. Additionally, the FAA has designated Newark Liberty International Airport (EWR), Chicago O'Hare International Airport (ORD), San Francisco International Airport (SFO), and Los Angeles International Airport (LAX) as Level 2 schedule-facilitated airports under the IATA WSG.² These Level 2 designations largely resulted from increasing congestion and delays requiring FAA to implement a voluntary schedule-facilitation process to manage operational growth at EWR, ORD, and SFO. The FAA designated LAX as Level 2 due to long-term construction projects expected to reduce runway capacity. The agency will review this designation upon the completion of the planned construction at LAX.

¹ Operating Limitations at John F. Kennedy International Airport, 73 FR 3510 (Jan. 18, 2008), as most recently amended 81 FR 40167 (Jun. 21, 2016); Operating Limitations at New York LaGuardia Airport, 71 FR 77854 (Dec. 27, 2006), as most recently amended 81 FR 33126 (May 25, 2016).

² Notice of Submission Deadline for Schedule Information for O'Hare International, John F. Kennedy International, and Newark Liberty International Airports for the Summer 2009 Scheduling Season, 73 FR 54659 (Sept. 22, 2008); Notice of Submission Deadline for Schedule Information for San Francisco International Airport for the Summer 2012 Scheduling Season, 76 FR 64163 (Oct. 17, 2011); Notice of Submission Deadline for Schedule Information for Los Angeles International Airport for the Summer 2015 Scheduling Season 80 FR 12253 (Mar. 6, 2015); Notice of Change of Newark Liberty International Airport Designation, 81 FR 19861 (Apr. 6, 2016). The FAA reaffirmed the Level 2 designations by 82 FR 45938 (Oct. 2, 2017).

The FAA uses the current DCA information collection approval in administering the slot program for scheduled and unscheduled operations at DCA established under 14 CFR part 93, subparts K and S. The FAA utilizes the collected information to (1) allocate available air carrier slots; (2) execute slot transfers; (3) record slot returns; (4) approve slot reservations for unscheduled or “other” operators; and (5) track slot usage. Carriers at DCA are the primary providers of slot information to the FAA.

The revision to the existing information collection approval would include information reported to the FAA by carriers holding a slot at JFK or LGA; by unscheduled operators at LGA; and by carriers operating scheduled flights at EWR, LAX, ORD, and SFO. At JFK, carriers must notify the FAA of: (1) Requests for confirmation of transferred slots; (2) requests for seasonal allocation of historic and additional available slots; (3) usage of slots on a seasonal basis; (4) the return of slots; and (5) changes to allocated slots. At LGA, carriers must notify the FAA of: (1) Requests for confirmation of transferred slots; (2) compulsory or voluntary slot returns; (3) requests to be included in a lottery for available slots; and (4) usage of slots on a bi-monthly basis. At LGA, unscheduled operators must request and obtain a reservation from the FAA prior to conducting an operation. At EWR, LAX, ORD and SFO, carriers are asked to notify the FAA of their intended operating schedules during peak hours on a semiannual basis and when there are significant schedule changes.

The FAA estimates that all information from carriers is submitted electronically from data stored in carrier scheduling databases. Nearly all requests for unscheduled operation reservations are submitted electronically through either an internet or touch-tone system interface.

Respondents: 140 carriers at various airports; unknown number of unscheduled operators at LGA and DCA.

Frequency: Information is collected as needed; some reporting on bimonthly or semiannual basis.

Estimated Average Burden per Response: 6 minutes per slot transfer per respondent (i.e. transferor and transferee); 6 minutes per slot return; 6 minutes per schedule update; 6 minutes per request for inclusion in a lottery; 2 minutes per unscheduled slot request; 1.5 hours per schedule submission; and 1 hour per slot usage report.

Estimated Total Annual Burden: 5367 hours.

Issued in Fort Worth, TX, on March 23, 2018.
Barbara L. Hall,
FAA Information Collection Clearance Officer, Performance, Policy, and Records Management Branch, ASP-110.

[FR Doc. 2018-06402 Filed 3-29-18; 8:45 am]

BILLING CODE 4910-13-P